DEPARTMENT OF DEFENSE

Department of the Army, Corps of Engineers

Intent To Prepare a Draft Environmental Impact Statement (DEIS) for the Proposed Amoruso Ranch Project in Placer County, CA, Corps Permit Application Number SPK-2004-00888

AGENCY: Department of the Army, U.S. Army Corps of Engineers, DOD.

ACTION: Notice of intent.

SUMMARY: On March 17, 2014, Brookfield Sunset LLC (applicant) submitted a Department of the Army (DA) permit application for the discharge of dredged and/or fill material into waters of the United States (WOUS) associated with the construction of the proposed Amoruso Ranch project. On December 22, 2014, the U.S Army Corps of Engineers, Sacramento District (Corps) determined that the proposed discharge of fill material into WOUS may result in significant impacts to the environment, and that the preparation of an Environmental Impact Statement (EIS) is necessary. A revised DA permit application was submitted by the applicant on October 30, 2014.

The applicant proposes to implement a large-scale, mixed-use, mixed density, master planned community. The proposed project consists of approximately 347 acres designated for residential use that would contain 2,827 dwelling units (in a mix of low, medium and high density), 51 acres for a village center and community commercial uses, 12 acres for public/quasi-public space containing a fire station and school, 161 acres of parks and natural avoided areas of open space reserve and/or preserve, and 82 acres of associated infrastructure containing roads and other public transportation corridors. Approximately 17 acres of the adjacent Al Johnson Wildlife Area property would be used to construct a 325-foot long drainage ditch. No other off-site improvements are included in the proposed project. A segment of the future Placer Parkway would be constructed by others on 49 acres of the site and is not part of this permit application.

The proposed project site is approximately 674 acres and contains approximately 38.86 acres of WOUS, including: Vernal pools; seasonal wetlands; University Creek; and, grasslands. The proposed project would involve the discharge of fill material into approximately 18.64 acres of WOUS, including vernal pools, seasonal wetlands, and open water pond. The proposed project may also result in indirect impacts to WOUS, including wetlands.

DATES: The Corps will conduct a public scoping meeting on Thursday, May 26, 2016, from 5:00-6:00 p.m.

ADDRESSES: The public scoping meeting will be held in Rooms 1 & 2 of the Martha Riley Community Library, 1501 Pleasant Grove Boulevard, Roseville, CA, 95747.

FOR FURTHER INFORMATION CONTACT: Ms. Leah M. Fisher, (916) 557-6639, email: Leah.M.Fisher@usace.army.mil.

SUPPLEMENTARY INFORMATION: Interested parties are invited to submit written comments on or before July 5, 2016. Scoping comments should be submitted within the next 60 days, but may be submitted at any time prior to publication of the DEIS. To submit comments on this notice or for questions about proposed activities in WOUS and the DEIS please contact Ms. Leah M. Fisher at (916) 557-6639 or by email at Leah.M.Fisher@usace.army.mil, 1325 J Street, Room 1350, Sacramento, CA 95814. Parties interested in being added to the Corps' electronic mail notification list for the proposed project can register at: http://www.spk.usace.army.mil/Media/RegulatoryPublicNotices.aspx. Please refer to Identification Number SPK-2004-00888 in any correspondence.

The Amoruso Ranch project site is located in unincorporated western Placer County, south of West Sunset Boulevard, approximately 1.5 miles west of Fiddyment Road, east of Pettigrew Road, and north of Pleasant Grove Creek in Sections 10, 11, and 14, Township 11 North and Range 5 east of the Pleasant Grove California 7.5-minute USGS quadrangle. The approximate center of the 674-acre site is Latitude 38.816667°, Longitude −121.384722°.

A wetland delineation of the project site, which has been verified by the Corps, indicates there are approximately 38.86 acres of WOUS present within the proposed project area, including: 9.81 acres of vernal pools; 19.74 acres of seasonal wetland swales; 4.83 acres of seasonal wetlands; 1.82 acre of freshwater marsh; 1.92 acre of intermittent stream; 0.01 acre of ephemeral stream; and, 0.36 acre of open water pond. A wetland delineation of the off-site improvement area was conducted in June 2015. There are approximately 0.364 acre of WOUS present within the off-site improvement area, including: 0.34 acre of farmed wetland; 0.001 acre of vernal pool; and, 0.023 acre of seasonal stream.

The EIS will include alternatives to the Proposed Action that will meet National Environmental Policy Act (NEPA) requirements for a reasonable range of alternatives, and will also meet the requirements of CWA section 404(b)(1) Guidelines. The alternatives to be evaluated within the EIS have not yet been developed, but will, at a minimum, include the No Action Alternative, the Proposed Action Alternative, and additional on-site and off-site alternatives.

The Corps' public involvement program includes several opportunities to provide verbal and written comments on the proposed Amoruso Ranch Project through the EIS process. Affected federal, state, and local agencies, Native American tribes, and other interested private organizations and parties are invited to participate. Potentially significant issues to be analyzed in depth in the EIS include the loss of WOUS (including wetlands) and impacts related to: Cultural resources; biological resources; air quality; hydrology and water quality; noise; traffic; aesthetics; utilities and service systems; and, socioeconomic effects.

The Corps will initiate formal consultation with the U.S. Fish and Wildlife Service (USFWS) under section 7 of the Endangered Species Act for proposed impacts to listed species. The Corps will also consult with the State Historic Preservation Office under section 106 of the National Historic Preservation Act for proposed impacts to properties listed or potentially eligible for listing on the National Register of Historic Places, as appropriate.

The Draft EIS is expected to be made available to the public by September 2017.

Dated: April 26, 2016.
Jeffrey S. Palazzini,
Deputy District Commander.

[FR Doc. 2016-10644 Filed 5-5-16; 8:45 am]

BILLING CODE 3720-58-P